DEPARTMENT OF TRANSPORTATION

Federal Aviation Administration

14 CFR Part 39

[Docket No. FAA-2005-22142; Directorate Identifier 2005-NM-153-AD; Amendment 39-14228; AD 2005-17-07]

RIN 2120-AA64

Airworthiness Directives; Airbus Model A320-111 Airplanes and Model A320-200 Series Airplanes

AGENCY: Federal Aviation Administration (FAA), Department of Transportation (DOT).

ACTION: Final rule; request for comments.

SUMMARY: The FAA is adopting a new airworthiness directive (AD) for certain Airbus Model A320-111 airplanes and Model A320-200 series airplanes. This AD requires doing a one-time general visual inspection of the axle nut on each main landing gear (MLG) wheel for the presence of locking bolts and associated hardware; doing any related investigative and corrective actions as applicable; and submitting an inspection report to the manufacturer. This AD results from a report that an axle nut had separated from an axle on a main landing gear (MLG) wheel, due to missing locking bolts. We are issuing this AD to detect and correct missing locking bolts on the axle nuts of the MLG wheels. Absence of the locking bolts could result in separation of a wheel(s) from the axle and consequent reduced controllability of the airplane during takeoff and landing, and possible injury to people on the ground.

DATES: This AD becomes effective September 7, 2005.

The Director of the Federal Register approved the incorporation by reference of a certain publication listed in the AD as of September 7, 2005.

We must receive comments on this AD by October 24, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Discussion

The Direction Générale de l'Aviation Civile (DGAC), which is the airworthiness authority for France, notified us that an unsafe condition may exist on certain Airbus Model A320-111 airplanes and Model A320-200 series airplanes. The DGAC advises that it received a report that, during taxi-out, the flightcrew of a Model A320 airplane felt the brake at wheel position 3 of the main landing gear (MLG) dragging, and saw a rise in brake temperature. An inspection of wheel position 3 revealed that the axle nut had separated from the axle, the axle sleeve had started to move out, and that the wheel assembly, including the outer bearing, had been severely damaged. An inspection of the other three wheel positions on that airplane revealed that the axle nuts on those wheels were not secured with locking bolts and had started to move out. An investigation revealed that the locking bolts that were intended to secure the axle nut to the axle were most likely not installed during production. Absence of the locking bolts, if not detected and corrected, could result in separation of a wheel(s) from the axle and consequent reduced controllability of the airplane during takeoff and landing, and possible injury to people on the ground.

Relevant Service Information

Airbus has issued All Operators Telex (AOT) A320-32A1303, dated July 4, 2005. The AOT describes procedures for doing a one-time visual inspection of the axle nut on each MLG wheel for the presence of locking bolts and associated hardware (nuts, washers, and pins); doing related investigative and corrective actions as applicable; and reporting inspection results. The related investigative and corrective actions are:

• Doing a visual inspection of the debris guard, fan impeller or hubcap, tachometer mounting sleeve, and other related components for any damage;

• Ensuring the correct torque for the axle nut;

• Doing a general visual inspection of the axle sleeve, retaining ring, and wheel for any damage if the axle nut has not been torqued properly;

• Replacing any damaged components; and

• Installing locking bolts and associated hardware.

The DGAC mandated the service information and issued French emergency airworthiness directive UF-2005-128, dated July 13, 2005, to ensure the continued airworthiness of these airplanes in France.

FAA's Determination and Requirements of this AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to detect and correct missing locking bolts on the MLG wheels. Absence of the locking bolts could result in separation of a wheel(s) from the axle and consequent reduced controllability of the airplane during takeoff and landing, and possible injury to people on the ground. This AD requires accomplishing the actions specified in the service information described previously.

Clarification of Inspection Terminology

In this AD, the “visual inspection” specified in the Airbus service information is referred to as a “general visual inspection.” We have included the definition for a general visual inspection in a note in the AD.

Interim Action

This is considered to be interim action. The inspection reports that are required by this AD will enable the manufacturer to obtain better insight into the extent of the missing locking bolts and associated hardware in the fleet to develop final action to address the unsafe condition. Once final action has been identified, the FAA may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22142; Directorate Identifier 2005-NM-153-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-07 Airbus: Amendment 39-14228. Docket No. FAA-2005-22142; Directorate Identifier 2005-NM-153-AD.

Effective Date

(a) This AD becomes effective September 7, 2005.

Affected ADs

(b) None.

Applicability

(c) This AD applies to Airbus Model A320-111 airplanes, and Model A320-211, -212, -214, -231, -232, and -233 airplanes; certificated in any category; with serial numbers 2275 through 2440 inclusive, 2442 through 2446 inclusive, 2448, 2450, 2452, 2454, 2456 through 2458 inclusive, 2460 through 2474 inclusive, 2476 through 2478 inclusive, 2480 through 2483 inclusive, 2485, and 2486.

Unsafe Condition

(d) This AD results from a report that an axle nut had separated from an axle on a main landing gear (MLG) wheel, due to missing locking bolts. The FAA is issuing this AD to detect and correct missing locking bolts on the axle nuts of the MLG wheels. Absence of the locking bolts could result in separation of a wheel(s) from the axle and consequent reduced controllability of the airplane during takeoff and landing, and possible injury to people on the ground.

Compliance

(e) You are responsible for having the actions required by this AD performed within the compliance times specified, unless the actions have already been done.

Inspection and Related Investigative and Corrective Actions

(f) Within 500 flight hours after the effective date of this AD, do a one-time general visual inspection of the axle nut of each MLG wheel for the presence of locking bolts and associated hardware (nuts, washers, and pins), and any applicable related investigative and corrective actions, in accordance with the Description section of Airbus All Operators Telex (AOT) A320-32A1303, dated July 4, 2005. Do any related investigative or corrective action before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspection Report

(g) Submit a report of the findings (both positive and negative) of the inspection(s) required by paragraph (f) of this AD to the manufacturer, in accordance with the Reporting/Acknowledgement section of Airbus AOT A320-32A1303, dated July 4, 2005, at the applicable time specified in paragraph (g)(1) or (g)(2) of this AD. The report must include the inspection results, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was accomplished prior to the effective date of this AD: Submit the report within 30 days after the effective date of this AD.

Alternative Methods of Compliance (AMOCs)

(h) The Manager, International Branch, ANM-116, Transport Airplane Directorate, FAA, has the authority to approve AMOCs for this AD, if requested in accordance with the procedures found in 14 CFR 39.19.

Related Information

(i) French emergency airworthiness directive UF-2005-128, dated July 13, 2005, also addresses the subject of this AD.

Material Incorporated by Reference

(j) You must use Airbus All Operators Telex A320-32A1303, dated July 4, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on August 11, 2005.
Kalene C. Yanamura,
Acting Manager, Transport Airplane Directorate, Aircraft Certification Service.

[FR Doc. 05-16457 Filed 8-22-05; 8:45 am]

BILLING CODE 4910-13-P